NATIONAL SCIENCE FOUNDATION

Proposal Review Panel for Physics; Notice of Meeting

In accordance with the Federal Advisory Committee Act (Pub. L. 92-463, as amended), the National Science Foundation announces the following meeting.

Name: University of Chicago Site Visit in Physics (1208).

Date and Time: Tuesday, November 2, 2010; 8 a.m.-7 p.m.

Wednesday, November 3, 2010: 9 a.m.-3 p.m.

Place: University of Chicago, Chicago, Illinois 60637.

Type of Meeting: Partially Closed.

Contact Person: Dr. James Reidy, Program Director for Elementary Particle Physics, National Science Foundation, 4201 Wilson Blvd., Arlington, VA 22230. Telephone: (703) 292-7392.

Purpose of Meeting: To provide an evaluation concerning the proposal submitted to the National Science Foundation.

Agenda

Tuesday, November 2, 2010

Closed: 8 a.m.-9 a.m. Executive Session

Open: 9 a.m.-12 noon Presentations by Faculty

Closed: 12:45 p.m.-1:15 p.m. Executive Session

Open: 1:15 p.m.-4:15 p.m. Tour of the facilities and presentations by Faculty

Closed: 4:30 p.m.-6:30 p.m. Budget discussions and Executive Session

Open: 6:30 p.m.-7 p.m. Panel Questions to Faculty

Thursday, November 3, 2009

Open: 9 a.m.-9:30 a.m. Presentation by Faculty

Closed: 9:30 a.m.-11:45 a.m. Executive Session; Faculty responses

Closed: 1 p.m.-2:30 p.m. Executive Session

Open: 2:30 p.m.-3 p.m. Close Out and Adjourn

Reason for Closing: The proposal contains proprietary or confidential material including technical information; financial data, such as salaries; and personal information concerning individuals associated with the proposals. These matters are exempt under 5 U.S.C. 552b (c) and (6) of the Government in the Sunshine Act.

Dated: October 13, 2010.
Susanne Bolton,
Committee Management Officer.

[FR Doc. 2010-26148 Filed 10-15-10; 8:45 am]

BILLING CODE 7555-01-P